DEPARTMENT OF ENERGY

Federal Energy Regulatory Commission

[Docket No. CP98-150-002]

Millennium Pipeline Company, L.P.; Notice of Amendment

July 6, 2000.

Take notice that on June 28, 2000, Millennium Pipeline Company, L.P. (Millennium), 12801 Fair Lakes Parkway, Fairfax, Virginia 22030, filed in Docket No. CP09-150-002 an amendment to its pending application filed in Docket No. CP98-150-000, to reflect a route variation in Westchester County, New York, all as more fully set forth in the application to amend which is on file with the Commission and open to public inspection. This filing may be viewed on the web at http://www.ferc.fed.us/online/htm (call 202-208-2222 for assistance).

Millennium states that Millennium and the Public Service Commission of the State of New York (PSCNY) have identified an alternative pipeline route in Westchester County, New York which they believe could satisfy the safety concerns that have been expressed by the PSCNY. Millennium indicates that the alternative route for the most part departs from the powerline right-of-way of Consolidated Edison Company of New York, Inc. and instead follows public highways and bike trails for most of its length.

Any person desiring to be heard or to make any protest with reference to said application should on or before July 27, 2000, file with the Federal Energy Regulatory Commission, 888 First Street, NE, Washington, DC 20426, a motion to intervene or a protest in accordance with the requirements of the Commission's Rules of Practice and Procedure (18 CFR 385.211 and 385.214) and the regulations under the Natural Gas Act (18 CFR 157.10). All protests filed with the Commission will be considered by it in determining the appropriate action to be taken but will not serve to make the protestants parties to the proceeding. The Commission's rules require that protestors provide copies of their protests to the party or parties directly involved.

Any person wishing to become a party in any proceeding herein must file a motion to intervene in accordance with the Commission's rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that formal hearing is required, further notice of such hearing will be duly given.

Under the procedure herein provided for, unless otherwise advised, it will be unnecessary for Millennium to appear or to be represented at the hearing.

David P. Boergers,
Secretary.

[FR Doc. 00-17548 Filed 7-11-00; 8:45 am]

BILLING CODE 6717-01-M